DEPARTMENT OF DEFENSE

Office of the Secretary

Meeting of the Advisory Council on Dependents' Education

AGENCY: Department of Defense Education Activity (DoDEA).

ACTION: Open meeting notice.

SUMMARY: Pursuant to the Federal Advisory Committee Act, Appendix 2 of title 5, United States Code, Public Law 92-463, notice is hereby given that a meeting of the Advisory Council on Dependents' Education (ACDE) is scheduled. The purpose of the ACDE is to recommend to the Director, Department of Defense Education Activity (DoDEA), general policies for the operation of the Department of Defense Dependents Schools (DoDDS); to provide the Director with information about effective educational programs and practices that should be considered by DoDDs; and to perform other tasks as may be required by the Secretary of Defense.

DATES: September 19, 2002, from 8 a.m. to 5 p.m.

ADDRESSES: The meeting will be held at the Webb Building, 9th Floor Director's Conference Room, Arlington, VA 22203.

FOR FURTHER INFORMATION CONTACT: Dr. Janet Rope at 703-696-4385, extension 1959.

Dated: August 14, 2002.
Patricia L. Toppings,
Alternate OSD Federal Register Liaison Officer, Department of Defense.

[FR Doc. 02-21045 Filed 8-19-02; 8:45 am]

BILLING CODE 5001-08-M